COMMISSION ON CIVIL RIGHTS

Sunshine Act Meetings

AGENCY: United States Commission on Civil Rights.

ACTION: Notice of Commission public business meeting.

DATES: Friday, September 10, 2021, 12:00 p.m. EST.

ADDRESSES: Meeting to take place by telephone and is open to the public by telephone: 1-866-556-2429, Conference ID #: 9502965.

FOR FURTHER INFORMATION CONTACT: Angelia Rorison: 202-376-7700; publicaffairs@usccr.gov.

SUPPLEMENTARY INFORMATION: In accordance with the Government in Sunshine Act (5 U.S.C. 552b), the Commission on Civil Rights is holding a meeting to discuss the Commission's business for the month of August. This meeting is open to the public. Computer assisted real-time transcription (CART) will be provided. The web link to access CART (in English) on Friday, September 10, 2021, is https://www.streamtext.net/player?event=USCCR. Please note that CART is text-only translation that occurs in real time during the meeting and is not an exact transcript. Schedule subject to change, for updates visit the USCCR Twitter at www.twitter.com/usccrgov.

Meeting Agenda

I. Approval of Agenda

II. Business Meeting

A. Presentations from Advisory Committees to the Commission on Recent Reports/Memo Releases

B. Discussion and Vote on Advisory Committee Appointments

C. Vote to Amend October 2022 Business Meeting Date

D. Discussion and Vote on Commission Statement Regarding School Safety

E. Management and Operations

• Staff Director's Report

III. Adjourn Meeting

Dated: August 31, 2021.
Angelia Rorison,
Director of Media and Communications.

[FR Doc. 2021-19673 Filed 9-8-21; 11:15 am]

BILLING CODE P